NATIONAL AERONAUTICS AND SPACE ADMINISTRATION

[Notice (03-045)]

Notice of Prospective Patent License

AGENCY: National Aeronautics and Space Administration.

ACTION: Notice of prospective patent license.

SUMMARY: NASA hereby gives notice that Taber Acquisitions Corporation dba Taber Industries has applied for an exclusive patent license to practice the invention described and claimed in NASA Case No. KSC-12221 entitled “Multi Sensor Transducer and Weight Factor,” which is assigned to the United States of America as represented by the Administrator of the National Aeronautics and Space Administration. Written objections to the prospective grant of a license should be sent to Randall M. Heald, Assistant Chief Counsel/Patent Counsel, and John F. Kennedy Space Center.

DATE(S): Responses to this Notice must be received by May 21, 2003.

FOR FURTHER INFORMATION CONTACT: Randall M. Heald, Assistant Chief Counsel/Patent Counsel, John F. Kennedy Space Center, Mail Code: CC-A, Kennedy Space Center, FL 32899, telephone (321) 867-7214.

Dated: April 29, 2003.
Robert M. Stephens,
Deputy General Counsel.

[FR Doc. 03-11114 Filed 5-5-03; 8:45 am]

BILLING CODE 7510-01-P